DEPARTMENT OF HEALTH AND HUMAN SERVICES

Administration on Aging

[Program Announcement No. AoA-02-04]

Fiscal Year 2002 Program Announcement; Availability of Funds and Notice Regarding Applications

AGENCY: Administration on Aging, HHS.

ACTION: Announcement of availability of funds and request for applications.

SUMMARY: The Administration on Aging announces that under the National Family Caregiver Support Program it will hold a competition to fund grant awards for up to seven (7) projects at a federal share of approximately $150,000-$200,000 per year for a project period of up to two (2) years.

Purpose of Grant Awards: The purpose of these projects is to develop services and systems to sustain the efforts of families and other informal caregivers of older individuals, and grandparents or older individuals who are relative caregivers of children.

Eligibility for Grant Awards and Other Requirements: Applications for funding under this program announcement are limited to organizations with demonstrated expertise in aging and caregiving and the ability to provide the proposed assistance nationwide. Public and private non-profit organizations, including faith-based and community-based organizations, are eligible to apply for these grant awards.

Grantees are required to provide a 25% non-federal match.

DATES: The deadline date for the submission of applications is May 10, 2002.

ADDRESSES: Application kits are available by writing to the U.S. Department of Health and Human Services, Administration on Aging, Office for Community-Based Services, 330 Independence Ave., SW, Washington, DC 20201, by calling 202/619-2575, or online at www.aoa.gov/egrants/. Applications must be mailed or hand-delivered to the Office of Grants Management at the same address, or submitted online at www.aoa.gov/egrants/.

Dated: March 13, 2002.
Josefina G. Carbonell,
Assistant Secretary for Aging.

[FR Doc. 02-6619 Filed 3-18-02; 8:45 am]

BILLING CODE 4154-01-P